CONSUMER PRODUCT SAFETY COMMISSION

[Docket No. CPSC-2024-0045]

Agency Information Collection Activities; Proposed Collection; Bathtub Slip Resistance Study

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for approval of a new information collection for a bathtub slip resistance study to support work on a voluntary Safety Standard for Bathtub and Shower Structure. On January 6, 2025, CPSC published a notice in the Federal Register seeking comments on the information collection request. The Commission received nine public comments. By publication of this notice, the Commission announces that CPSC has submitted to the OMB a request for approval of that collection of information.

DATES: Submit comments on the collection of information by May 16, 2025.

ADDRESSES: Submit comments about this request by email: OIRA_submission@omb.eop.gov. Comments by mail should be sent to the Office of Information and Regulatory Affairs, Attn: OMB Desk Officer for the CPSC, Office of Management and Budget, Room 10235, 725 17th Street NW, Washington, DC 20503. Written comments that are sent to OMB also should be submitted electronically at http://www.regulations.gov under Docket No. CPSC-2024-0045.

FOR FURTHER INFORMATION CONTACT: Cynthia Gillham, Consumer Product Safety Commission, 4330 East-West Highway, Bethesda, MD 20814; (301) 504-7791, or by email to: pra@cpsc.gov.

SUPPLEMENTARY INFORMATION: CPSC seeks approval for the following collection of information: ¹

¹ On April 8, 2025, the Commission voted (5-0) to publish this notice.

Title: Bathtub Slip Resistance Study.

OMB Number: New.

Type of Request: New information collection.

Type of Review Requested: Regular.

Requested Expiration Date of Approval: Three years from date of approval.

Summary of the Collection of Information: The objective of this study is to conduct human slip research on three bathtubs on the market and to measure the friction demand of participants stepping into and out of the bathtubs when dry and wet. CPSC contracted with Arizona State University (ASU) to conduct this study. Participants will be recruited from the Phoenix, Arizona metro area. The experiments will be conducted at ASU's Locomotion Research Laboratory. The study will involve a total of three sessions to test three bathtub surfaces, where participants will walk into the tub and step out while wearing fall arresting harness systems for safety. During these sessions, resistance forces under the foot and motion of the foot movements will be measured. The study will quantify the minimum frictional performance required for a bathing surface to reduce slips and falls. CPSC will publish the study and will share the results of the study with the ASTM F15.03 Subcommittee on Safety Standards for Bathtub and Shower Structures working on replacing ASTM F462.

Description of the Need for the Information and Proposed Use of the Information: Falls are the leading cause of injury and death for older adults 65 and older.² Information collected as part of the bathtub slip resistance study is needed initially to support CPSC staff in efforts to work with the ASTM F15.03 Subcommittee on Safety Standards for Bathtub and Shower Structures to replace the obsolete ASTM F462 standard for bathing surface friction that ASTM withdrew in 2016. This study will be used to inform CPSC of major requirements needed to achieve an efficient and effective slip-resistance standard.

² Chowdhury et al., U.S. Consumer Prod. Safety Comm'n., Consumer Product-related Injuries and Deaths Among Adults 65 Years of Age and Older, 67-68 (2021), available at https://tinyurl.com/2t88v33m.

Affected Public: Adults between ages 18 and 95 years old.

Estimated Number of Respondents: We expect up to 200 respondents annually. Over the full authorized period of the study, which is three years, up to 600 respondents may participate.

Frequency: One.

Total Estimated Annual Burden: Although response times will vary, on average, it will take 2.5 hours for respondents to fully participate in the study. Therefore, the annual estimated response burden is 500 hours (200 responses × 2.5 hours per response).

Total Estimated Annual Burden Cost: There are no costs to respondents and no respondent recordkeeping requirements associated with the study. There are no operating, maintenance, or capital costs associated with the collection. Participants will receive $100 for participation in the study.

Response to Public Comments:

Most commenters expressed support for the proposed information collection with some commenters offering suggestions that were out of scope. Other comments included discussing the sample size, requesting clarity about the development of the standard, suggesting ways to measure data, and seeking information about the equipment that will be used to measure friction data.

An engineering consultant, a biomedical consultant, and an anonymous commenter opined that the proposed research includes a small sample size of bathtubs. The bathtubs in the study are representative of three types of bathtub surfaces. Staff assessed that this is adequate for gathering preliminary data on whether a minimum frictional performance for reducing slips and falls exists.

The engineering consultant further commented seeking clarity on how the results will be used to develop a standard. As stated in the Summary of the Collection of Information, during the three sessions where participants will step into and out of the bathtubs, the resistance forces under the foot and motion of the foot movements will be measured to quantify the minimum frictional performance required for a bathing surface to reduce slips and falls to support ASTM's work in developing the standard.

The Tile Council of North America (TCNA) commented that transition from dry to wet surfaces should be considered, as unexpected changes in traction can cause slip incidents. Staff notes that the study will include transitions from dry to wet surfaces. TCNA also requested clarification on how friction data will be collected. Friction data will be collected using a force plate ³ to quantify human gait and balance.

³ A force plate is a mechanical sensing system “designed to measure the ground reaction forces and moments involved in human movements.” More information available at: https://www.sciencedirect.com/topics/engineering/force-plate.

Another engineering consultant commented that CPSC's proposed collection of information does not have practical utility because it will not provide useful information to replace ASTM F462, and they pointed to other research that should be considered. Practical utility is defined as “the ability of an agency to use information, particularly the capability to process such information in a timely and useful fashion.” 44 U.S.C. 3502(11). As stated in the Description of the Need for the Information and Proposed Use of the Information, the study will quantify the minimum frictional performance required for a bathing surface to reduce slips and falls. Staff intends to work with the ASTM F15.03 Subcommittee on Safety Standards for Bathtub and Shower Structures to replace the obsolete ASTM F462 standard for bathing surface friction that ASTM withdrew in 2016. This study will be used to inform CPSC of major requirements needed to achieve an efficient and effective slip-resistance standard. With this information, the Commission details its need and ability to process and use this information collection.

The National Floor Safety Institute (NFSI) also submitted comments to suggest that CPSC should not conduct their own research and instead rely on NFSI's research and standard. As stated in the Description of the Need for the Information and Proposed Use of the Information, the Commission describes the need for this study to support CPSC's efforts to work with the ASTM F15.03 Subcommittee on Safety Standard for Bathtub and Shower Structures to replace the withdrawn ASTM F462 standard.

Alberta E. Mills,
Secretary, Consumer Product Safety Commission.

[FR Doc. 2025-06432 Filed 4-15-25; 8:45 am]

BILLING CODE 6355-01-P